DEPARTMENT OF ENERGY

Federal Energy Regulatory Commission

[Docket No. CP98-150-005]

Millennium Pipeline Company, L.P.; Notice of Compliance Filing

March 7, 2002.

Take notice that on February 19, 2002, Millennium Pipeline Company, L.P. (Millennium) tendered for filing in the above referenced dockets, revised rates and pro forma tariff sheets in compliance with the Commission's Interim Order issued December 19, 2001, in Docket No. CP98-150-000, et al., (97 FERC ¶ 61,292).

Millennium asserts that the Interim Order directed it to file within sixty days rates consistent with the revised capital structure and pro forma tariff sheets that reflect compliance with the GISB standards, Order No. 637, and the other modifications discussed in the order. Millennium contends that in compliance with the rate provisions of the Interim Order, it filed Revised Exhibits N and P that set forth the derivations of the revised FT, IT, and PL recourse rates. Millennium asserts that it has sought rehearing of the Interim Order's requirement that the rates be designed on a capital structure of 75 percent debt and 25 percent equity in lieu of the proposed capital structure of 65 percent debt and 35 percent equity. Millennium asserts that the Interim Order required the initial rates to be filed at least 60 days prior to its in-service date. Millennium contends that accordingly, it will file its initial rates before that deadline and consistent with the capital structure determination set forth in the Commission's order on rehearing.

In compliance with the Interim Order, Millennium asserts that it filed revised pro forma tariff sheets, GISB requirements, and Order No. 637 and its progeny. In addition, Millennium asserts that it identified technical changes required to update its tariff, correct typographical errors, correct cross-reference, and eliminate minor inconsistencies among different tariff provisions. As required by the Interim Order, Millennium contends that it is providing marked pro forma tariff sheets showing changes from the original pro forma tariff and table identifying the changes made to the original pro forma tariff.

Any questions concerning this filing may directed to counsel for Millennium, Julia E. Sullivan., Esq., Sidley Austin Brown & Wood LLP at 202 736-8000, fax (202) 736-8711, or via the Internet at jsullivan@sidley.com.

Any person desiring to protest said filing should file a protest with the Federal Energy Regulatory Commission, 888 First Street, NE., Washington, DC 20426, in accordance with Section 385.211 of the Commission's Rules and Regulations. All such protests must be filed on or before April 5, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-5975 Filed 3-12-02; 8:45 am]

BILLING CODE 6717-01-P